DEPARTMENT OF LABOR

Bureau of Labor Statistics

Proposed Collection, Comment Request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. The Bureau of Labor Statistics (BLS) is soliciting comments concerning the revision of the “The Consumer Expenditure Surveys: The Quarterly Interview and the Diary.” A copy of the proposed information collection request (ICR) can be obtained by contacting the individual listed below in the ADDRESSES section of this notice.

DATES: Written comments must be submitted to the office listed in the ADDRESSES section of this notice on or before November 22, 2010.

ADDRESSES: Send comments to Nora Kincaid, BLS Clearance Officer, Division of Management Systems, Bureau of Labor Statistics, Room 4080, 2 Massachusetts Avenue, NE., Washington, DC 20212. Written comments also may be transmitted by fax to 202-691-5111 (this is not a toll free number).

FOR FURTHER INFORMATION CONTACT: Nora Kincaid, BLS Clearance Officer, at 202-691-7628 (this is not a toll free number). (See ADDRESSES section.)

SUPPLEMENTARY INFORMATION:

I. Background

The Consumer Expenditure (CE) Surveys collect data on consumer expenditures, demographic information, and related data needed by the Consumer Price Index (CPI) and other public and private data users. The continuing surveys provide a constant measurement of changes in consumer expenditure patterns for economic analysis and to obtain data for future CPI revisions. The CE Surveys have been ongoing since 1979.

The data from the CE Surveys are used (1) for CPI revisions, (2) to provide a continuous flow of data on income and expenditure patterns for use in economic analysis and policy formulation, and (3) to provide a flexible consumer survey vehicle that is available for use by other Federal Government agencies. Public and private users of price statistics, including Congress and the economic policymaking agencies of the Executive branch, rely on data collected in the CPI in their day-to-day activities. Hence, data users and policymakers widely accept the need to improve the process used for revising the CPI. If the CE Surveys were not conducted on a continuing basis, current information necessary for more timely, as well as more accurate, updating of the CPI would not be available. In addition, data would not be available to respond to the continuing demand from the public and private sectors for current information on consumer spending.

In the Quarterly Interview Survey, each consumer unit (CU) in the sample is interviewed every three months over five calendar quarters. The sample for each quarter is divided into three panels, with CUs being interviewed every three months in the same panel of every quarter. The Quarterly Interview Survey is designed to collect data on the types of expenditures that respondents can be expected to recall for a period of three months or longer. In general the expenses reported in the Interview Survey are either relatively large, such as property, automobiles, or major appliances, or are expenses which occur on a fairly regular basis, such as rent, utility bills, or insurance premiums.

The Diary (or recordkeeping) Survey is completed at home by the respondent family for two consecutive one-week periods. The primary objective of the Diary Survey is to obtain expenditure data on small, frequently purchased items which normally are difficult to recall over longer periods of time.

II. Current Action

Office of Management and Budget clearance is being sought for the Consumer Expenditure Surveys: The Quarterly Interview and the Diary.

The continuing CE Surveys provide a constant measurement of changes in consumer expenditure patterns for economic analysis and obtain data for future CPI revisions.

The Consumer Expenditure Quarterly Interview Survey has recently undergone a thorough review. The proposed changes from this review fall into two major categories: Streamlining the current questions in several sections and updating several questions and sections to reflect the current marketplace. In the streamlining category, the BLS deleted or collapsed obsolete questions. For example, previously clothing purchases were asked separately for those over and under two years old. These questions were combined into one section for all clothing purchases. Sewing products were moved to `Miscellaneous Expenditures' after `arts and crafts.'

To keep the survey current and to fulfill the requirements of the Consumer Price Index (CPI), question wording changed and new items were added. For example, additional questions were added to collect more detailed information on whether rental payments include services such as cable, Internet, or household furnishings; and to determine whether business properties are residential or commercial. Changes were made to keep the survey current with products and services available in the marketplace and to provide better data for analytical purposes such as the addition of electronic book readers.

Minor changes to the Diary CAPI instrument are proposed for 2011. The changes include minor updates to the race and origin questions asked of each Consumer Unit member.

In addition, the BLS proposes the addition of a “research section” to the CEQ CAPI instrument. This section will be used to gather information from respondents on a range of topics being studied. The intent is that any particular set of questions in this section will not be asked for more than one year. Initially this section will be used to collect outlet data for five broad categories of expenditures: Electronics, music, clothing, restaurant food, and groceries as well as one question on whether or not the household has a working landline phone. These data are being collected by CE on behalf of the CPI to aid in their research into bias in the Telephone Point of Purchase Survey (TPOPS), given that the TPOPS sample consists of only landline telephone numbers. Respondents will be asked a maximum of twelve questions. These questions will be asked for all interviews for one calendar quarter of data collection. This particular test is not intended to determine the feasibility of collecting outlet data in the CE Interview survey on a long term basis.

A full list of the proposed changes to the Quarterly Interview Survey and Diary Survey are available upon request.

In addition to the TPOPS test, the Consumer Expenditure program is planning several tests over the next several years in an effort to improve the CE surveys in the areas of both data quality and respondent burden.

III. Desired Focus of Comments

The Bureau of Labor Statistics is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Type of Review: Revision.

Agency: Bureau of Labor Statistics.

Title: The Consumer Expenditure Surveys: The Quarterly Interview and the Diary.

OMB Number: 1220-0050.

Affected Public: Individuals or Households.

Form | Total respondents | Frequency | Total responses | Average time per response (minutes) | Estimated total burden
CEQ—Interview | 8,825 | 4 | 35,300 | 60 | 35,300
CEQ—Reinterview | 4,400 | 1 | 4400 | 10 | 733
CED—Diary (record-keeping) | 7,050 | 2 | 14,100 | 105 | 24,675
CED—Diary (Interview) | 7,050 | 3 | 21,150 | 25 | 8,813
CED—Diary (Reinterview) | 1,400 | 1 | 1,400 | 10 | 233
Totals |  |  | 76,350 |  | 69,754

Total Burden Cost (capital/startup): $0.

Total Burden Cost (operating/maintenance): $0.

Comments submitted in response to this notice will be summarized and/or included in the request for Office of Management and Budget approval of the information collection request; they also will become a matter of public record.

Signed at Washington, DC, this 14th day of September 2010.
Kimberley Hill,
Chief, Division of Management Systems, Bureau of Labor Statistics.

[FR Doc. 2010-23663 Filed 9-21-10; 8:45 am]

BILLING CODE 4510-24-P